DEPARTMENT OF ENERGY

Federal Energy Regulatory Commission

Combined Notice of Filings

Take notice that the Commission has received the following Natural Gas Pipeline Rate and Refund Report filings:

Filings Instituting Proceedings

Docket Numbers: RP18-806-001.

Applicants: ENGIE Gas & LNG LLC, Exelon Generation Company, LLC.

Description: Joint Petition to Amend Temporary Waivers of Capacity Release Regulations and Policies, et al.

Filed Date: 9/28/18.

Accession Number: 20180928-5188.

Comments Due: 5 p.m. ET 10/5/18.

Docket Numbers: RP17-913-003.

Applicants: Natural Gas Pipeline Company of America.

Description: Compliance filing Filing Settlement Rates Phase II November 1 2018 to be effective 11/1/2018.

Filed Date: 10/1/18.

Accession Number: 20181001-5321.

Comments Due: 5 p.m. ET 10/15/18.

Docket Numbers: RP19-1-000.

Applicants: DBM Pipeline, LLC.

Description: Compliance filing Cost and Revenue Study under Docket No. CP15-104-000.

Filed Date: 10/1/18.

Accession Number: 20181001-5075.

Comments Due: 5 p.m. ET 10/15/18.

Docket Numbers: RP19-2-000.

Applicants: Guardian Pipeline, L.L.C.

Description: § 4(d) Rate Filing: EPCR Semi-Annual Adjustment—Fall 2018 to be effective 11/1/2018.

Filed Date: 10/1/18.

Accession Number: 20181001-5086.

Comments Due: 5 p.m. ET 10/15/18.

Docket Numbers: RP19-3-000.

Applicants: Cimarron River Pipeline, LLC.

Description: § 4(d) Rate Filing: Fuel Tracker 2018—Winter Season Rates to be effective 11/1/2018.

Filed Date: 10/1/18.

Accession Number: 20181001-5092.

Comments Due: 5 p.m. ET 10/15/18.

Docket Numbers: RP19-4-000.

Applicants: Iroquois Gas Transmission System, L.P.

Description: § 4(d) Rate Filing: 100118 Negotiated Rates—Mercuria Energy America, Inc. R-7540-02 to be effective 11/1/2018.

Filed Date: 10/1/18.

Accession Number: 20181001-5095.

Comments Due: 5 p.m. ET 10/15/18.

Docket Numbers: RP19-5-000.

Applicants: Equitrans, L.P.

Description: § 4(d) Rate Filing: Negotiated Capacity Release Agreements—10/1/2018 to be effective 10/1/2018.

Filed Date: 10/1/18.

Accession Number: 20181001-5107.

Comments Due: 5 p.m. ET 10/15/18.

Docket Numbers: RP19-6-000.

Applicants: Natural Gas Pipeline Company of America.

Description: § 4(d) Rate Filing: Tenaska Marketing Ventures Amendment to NRA to be effective 10/1/2018.

Filed Date: 10/1/18.

Accession Number: 20181001-5118.

Comments Due: 5 p.m. ET 10/15/18.

Docket Numbers: RP19-7-000.

Applicants: Texas Gas Transmission, LLC.

Description: § 4(d) Rate Filing: 2018 Fuel Tracker Filing to be effective 11/1/2018.

Filed Date: 10/1/18.

Accession Number: 20181001-5121.

Comments Due: 5 p.m. ET 10/15/18.

Docket Numbers: RP19-8-000.

Applicants: Rover Pipeline LLC.

Description: § 4(d) Rate Filing: Summary of Negotiated Rate Capacity Release Agreements on 10-1-18 to be effective 10/1/2018.

Filed Date: 10/1/18.

Accession Number: 20181001-5154.

Comments Due: 5 p.m. ET 10/15/18.

Docket Numbers: RP19-9-000.

Applicants: Transcontinental Gas Pipe Line Company.

Description: § 4(d) Rate Filing: 2018 LNG Fuel Tracker Filing to be effective 11/1/2018.

Filed Date: 10/1/18.

Accession Number: 20181001-5155.

Comments Due: 5 p.m. ET 10/15/18.

Docket Numbers: RP19-10-000.

Applicants: Columbia Gas Transmission, LLC.

Description: § 4(d) Rate Filing: Negotiated Rate Amendment—Kinzer to be effective 10/1/2018.

Filed Date: 10/1/18.

Accession Number: 20181001-5157.

Comments Due: 5 p.m. ET 10/15/18.

Docket Numbers: RP19-11-000.

Applicants: Nautilus Pipeline Company, L.L.C.

Description: § 4(d) Rate Filing: Negotiated Rate—BP Exploration—contract 630154 to be effective 10/1/2018.

Filed Date: 10/1/18.

Accession Number: 20181001-5163.

Comments Due: 5 p.m. ET 10/15/18.

Docket Numbers: RP19-12-000.

Applicants: High Point Gas Transmission, LLC.

Description: Compliance filing Compliance Tariff Filing to be effective 11/1/2018.

Filed Date: 10/1/18.

Accession Number: 20181001-5178.

Comments Due: 5 p.m. ET 10/15/18.

Docket Numbers: RP19-13-000.

Applicants: Florida Gas Transmission Company, LLC.

Description: Compliance filing Compliance with CP17-8-000 East-West Project to be effective 12/1/2018.

Filed Date: 10/1/18.

Accession Number: 20181001-5197.

Comments Due: 5 p.m. ET 10/15/18.

Docket Numbers: RP19-14-000.

Applicants: WBI Energy Transmission, Inc.

Description: § 4(d) Rate Filing: 2018 Add Line Section 31 for VEP to be effective 11/1/2018.

Filed Date: 10/1/18.

Accession Number: 20181001-5208.

Comments Due: 5 p.m. ET 10/15/18.

Docket Numbers: RP19-15-000.

Applicants: WBI Energy Transmission, Inc.

Description: § 4(d) Rate Filing: 2018 Non-Conforming Service Agreements FT-1468 & FT-1469 to be effective 11/1/2018.

Filed Date: 10/1/18.

Accession Number: 20181001-5218.

Comments Due: 5 p.m. ET 10/15/18.

Docket Numbers: RP19-16-000.

Applicants: Texas Eastern Transmission, LP.

Description: § 4(d) Rate Filing: STEP Project Negotiated Rate Interim Agreements to be effective 10/1/2018.

Filed Date: 10/1/18.

Accession Number: 20181001-5233.

Comments Due: 5 p.m. ET 10/15/18.

Docket Numbers: RP19-17-000.

Applicants: WBI Energy Transmission, Inc.

Description: Compliance filing 2018 Compliance Filing for VEP to be effective 11/1/2018.

Filed Date: 10/1/18.

Accession Number: 20181001-5234.

Comments Due: 5 p.m. ET 10/15/18.

Docket Numbers: RP19-18-000.

Applicants: Southern Natural Gas Company, L.L.C.

Description: § 4(d) Rate Filing: Fairburn Negotiated Rate to be effective 11/1/2018.

Filed Date: 10/1/18.

Accession Number: 20181001-5275.

Comments Due: 5 p.m. ET 10/15/18.

Docket Numbers: RP19-19-000.

Applicants: Texas Eastern Transmission, LP.

Description: § 4(d) Rate Filing: Negotiated Rates—Sequent 911362 to be effective 10/1/2018.

Filed Date: 10/1/18.

Accession Number: 20181001-5277.

Comments Due: 5 p.m. ET 10/15/18.

Docket Numbers: RP19-20-000.

Applicants: Alliance Pipeline L.P.

Description: § 4(d) Rate Filing: APL 2018 Fuel Filing to be effective 11/1/2018.

Filed Date: 10/1/18.

Accession Number: 20181001-5280.

Comments Due: 5 p.m. ET 10/15/18.

Docket Numbers: RP19-21-000.

Applicants: Colorado Interstate Gas Company, L.L.C.

Description: § 4(d) Rate Filing: Update to Fuel Exemption Paths Filing to be effective 11/1/2018.

Filed Date: 10/1/18.

Accession Number: 20181001-5296.

Comments Due: 5 p.m. ET 10/15/18.

Docket Numbers: RP19-22-000.

Applicants: Enable Gas Transmission, LLC.

Description: § 4(d) Rate Filing: Negotiated Rate Filing—October 2018— Newfield 1011022 to be effective 10/1/2018.

Filed Date: 10/1/18.

Accession Number: 20181001-5297.

Comments Due: 5 p.m. ET 10/15/18.

Docket Numbers: RP19-23-000.

Applicants: El Paso Natural Gas Company, L.L.C.

Description: § 4(d) Rate Filing: Non-Conforming Negotiated Rate Agreement (Saavi) to be effective 11/1/2018.

Filed Date: 10/1/18.

Accession Number: 20181001-5320.

Comments Due: 5 p.m. ET 10/15/18.

Docket Numbers: RP19-24-000.

Applicants: Guardian Pipeline, L.L.C.

Description: § 4(d) Rate Filing: Transporter Use Gas Annual Adjustment—Fall 2018 to be effective 11/1/2018.

Filed Date: 10/1/18.

Accession Number: 20181001-5322.

Comments Due: 5 p.m. ET 10/15/18.

Docket Numbers: RP19-25-000.

Applicants: Texas Gas Transmission, LLC.

Description: § 4(d) Rate Filing: Cap Rel Neg Rate Agmt (JERA 37469 to EDR Trading No Amer 37422) to be effective 10/1/2018.

Filed Date: 10/1/18.

Accession Number: 20181001-5344.

Comments Due: 5 p.m. ET 10/15/18.

Docket Numbers: RP19-26-000.

Applicants: Algonquin Gas Transmission, LLC.

Description: § 4(d) Rate Filing: NCF Agreements—Constellation—511057 & 511058 to be effective 10/1/2018.

Filed Date: 10/1/18.

Accession Number: 20181001-5345.

Comments Due: 5 p.m. ET 10/15/18.

Docket Numbers: RP19-28-000.

Applicants: WBI Energy Transmission, Inc.

Description: Annual Penalty Credit Revenue Report of WBI Energy Transmission, Inc.

Filed Date: 10/1/18.

Accession Number: 20181001-5378.

Comments Due: 5 p.m. ET 10/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2018.
Nathaniel J. Davis, Sr.,
Deputy Secretary.

[FR Doc. 2018-21934 Filed 10-9-18; 8:45 am]

BILLING CODE 6717-01-P